DEPARTMENT OF COMMERCE

Foreign-Trade Zones Board

(Docket 30-2006)

Proposed Foreign-Trade Zone, Lehigh Valley, Pennsylvania, Application and Public Hearing

An application has been submitted to the Foreign-Trade Zones Board (the Board) by the Lehigh Valley Economic Development Corporation, a Pennsylvania non-profit agency, to establish a general-purpose foreign-trade zone at sites in Lehigh and Northampton Counties, Pennsylvania, adjacent to the Philadelphia Customs port of entry. The application was submitted pursuant to the provisions of the FTZ Act, as amended (19 U.S.C. 81a-81u), and the regulations of the Board (15 CFR Part 400). It was formally filed on July 18, 2006. The applicant is authorized to make the proposal under Pennsylvania Statute 66 Pa.C.S.§ 3102.

The proposed zone would consist of 7 sites covering 1,927 acres in Lehigh and Northampton Counties, Pennsylvania: Site 1 (727 acres) - Lehigh Valley Industrial Park VII, 1805 East 4th Street, Bethlehem; Site 2 (96 acres) - Arcadia East Industrial Park, intersection of Route 512 and Silver Crest Road, East Allen Township; Site 3 (83 acres) - Arcadia West Industrial Park, intersection of I-78 and Route 863, Weisenberg Township; Site 4 (226 acres) - West Hills Business Center, intersection of I-78 and Route 863, Weisenberg Township; Site 5 (399 acres) - Boulder Business Center, intersection of Boulder Drive and Industrial Blvd., Breinigsville; Site 6 (183 acres) - Lehigh Valley West Corporate Center, intersection of Nestle Way and Schantz Road, Breinigsville; and, Site 7 (213 acres) within the LogistiCenter, 4950 Hanoverville Road, Bethlehem. The sites are owned by a number of private corporations. A portion (70 acres) of proposed Site 7 is currently designated as Site 15 of FTZ 147. Approval of this request would transfer the site from FTZ 147 to the Lehigh Valley Economic Development Corporation. The Foreign-Trade Zone Corporation of Southeastern Pennsylvania, grantee of FTZ 147, has concurred with the request.

The application indicates a need for zone services in Lehigh and Northampton Counties, Pennsylvania. Several firms have indicated an interest in using zone procedures for warehousing/distribution activities for a variety of products. Specific manufacturing approvals are not being sought at this time. Requests would be made to the Board on a case-by-case basis.

In accordance with the Board's regulations, a member of the FTZ staff has been designated examiner to investigate the application and report to the Board.

As part of the investigation, the Commerce examiner will hold a public hearing on September 7, 2006 at 1:00 pm, in the Lincoln Room of the Best Western Lehigh Valley, 300 Gateway Drive, Bethlehem, PA 18107.

Public comment on the application is invited from interested parties. Submissions (original and 3 copies) shall be addressed to the Board's Executive Secretary at the following location: Foreign-Trade Zones Board, U.S. Department of Commerce, 1401 Constitution Ave., NW, Room 1115, Washington, DC 20230.

The closing period for their receipt is September 26, 2006. Rebuttal comments in response to material submitted during the foregoing period may be submitted during the subsequent 15-day period (to [October 11, 2006]).

A copy of the application and accompanying exhibits will be available for public inspection at the Office of Foreign-Trade Zones Board's Executive Secretary at the first address listed above, and at the office of the Lehigh Valley Economic Development Corporation, 2158 Avenue C, Suite 200, Bethlehem, Pennsylvania 18017.

Dated: July 18, 2006.
Andrew McGilvray,
Acting Executive Secretary.

[FR Doc. E6-12059 Filed 7-27-06; 8:45 am]

BILLING CODE 3510-DS-S